SECURITIES AND EXCHANGE COMMISSION

[File No. 500-1]

Big Sky Energy Corp., Biomedical Waste Systems, Inc., Biometrics Security Technology, Inc., Biosys, Inc., Bolder Technologies Corp., Boyds Wheels, Inc., Breakaway Solutions, Inc., and BRE-X Minerals, Ltd.; Order of Suspension of Trading

January 21, 2010.

It appears to the Securities and Exchange Commission that there is a lack of current and accurate information concerning the securities of Big Sky Energy Corp. because it has not filed any periodic reports since the period ended December 31, 2006.

It appears to the Securities and Exchange Commission that there is a lack of current and accurate information concerning the securities of Biomedical Waste Systems, Inc. because it has not filed any periodic reports since the period ended March 31, 1995.

It appears to the Securities and Exchange Commission that there is a lack of current and accurate information concerning the securities of Biometrics Security Technology, Inc. because it has not filed any periodic reports since December 31, 2002.

It appears to the Securities and Exchange Commission that there is a lack of current and accurate information concerning the securities of Biosys, Inc. because it has not filed any periodic reports since the period ended September 30, 1996.

It appears to the Securities and Exchange Commission that there is a lack of current and accurate information concerning the securities of Bolder Technologies Corp. because it has not filed any periodic reports since the period ended September 30, 2000.

It appears to the Securities and Exchange Commission that there is a lack of current and accurate information concerning the securities of Boyds Wheels, Inc. because it has not filed any periodic reports since the period ended September 30, 1997.

It appears to the Securities and Exchange Commission that there is a lack of current and accurate information concerning the securities of Breakaway Solutions, Inc. because it has not filed any periodic reports since the period ended December 31, 2000.

It appears to the Securities and Exchange Commission that there is a lack of current and accurate information concerning the securities of BRE-X Minerals, Ltd. because it has not filed any periodic reports since the period ended August 19, 1996.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on January 21, 2010, through 11:59 p.m. EST on February 3, 2010.

By the Commission.
Jill M. Peterson,
Assistant Secretary.

[FR Doc. 2010-1441 Filed 1-21-10; 11:15 am]

BILLING CODE 8011-01-P